FEDERAL MEDIATION AND CONCILIATION SERVICE

29 CFR Part 1400

RIN 3076-AA22

Code of Professional Conduct for Labor Mediators

AGENCY: Federal Mediation and Conciliation Service.

ACTION: Notice of proposed rulemaking.

SUMMARY: The Federal Mediation and Conciliation Service (FMCS) hereby publishes this notice of proposed rulemaking to solicit comments on the re-titling of this section and the decision to draft a new code of professional conduct for FMCS mediators.

DATES: Comments must be submitted on or before January 9, 2023.

ADDRESSES: You may submit comments through one of the following methods:

• Email: register@fmcs.gov. Include the Code of Professional Conduct for Labor Mediators—Comments in the subject line of the message.

• Mail: Code of Professional Conduct for Labor Mediators—Comments c/o Anna Davis, One Independence Square, 250 E St. SW, Washington, DC 20427. Please note that at this time, mail is sometimes delayed. Therefore, we encourage emailed comments.

FOR FURTHER INFORMATION CONTACT: Anna Davis, Deputy General Counsel, Office of General Counsel, Federal Mediation and Conciliation Service, 250 E St. SW, Washington, DC 20427; Office/Fax/Mobile 202-606-3737; register@fmcs.gov.

SUPPLEMENTARY INFORMATION: In 1964, a Code of Professional Conduct for Labor Mediators was drafted by a Federal-State Liaison Committee and approved by the Federal Mediation and Conciliation Service (FMCS) and the Association of Labor Mediation Agencies. On April 13, 1968, at 33 FR 5765, the Federal Mediation and Conciliation Service (FMCS) published a final rule entitled “Code of Professional Conduct for Labor Mediators.” This final rule adopted and codified the Code of Conduct for Labor Mediators. This Code has not been updated in nearly sixty years and no longer reflects the agency's values, scope of services provided by FMCS mediators, or best practices for conflict management and resolution services. Therefore, FMCS is creating a new code of professional conduct and is updating this rule to reference this internal Code of Professional Conduct for FMCS Mediators.

List of Subjects in 29 CFR 1400

Administrative practice and procedure and Labor management relations.

For the reasons set forth in the preamble, and under the authority 29 U.S.C. 172 of the Taft Harley Act of 1947, FMCS propose to amend 29 CFR chapter XII part 1400 as follows:

PART 1400—STANDARDS OF CONDUCT, RESPONSIBILITIES, AND DISCIPLINE

Subpart B—Employees: Ethical and Other Conduct and Responsibilities

1. The authority citation for part 1400 continues to read as follows:

Authority: E.O. 11222, 30 FR 6469, 3 CFR, 1965 Supp.; 5 CFR 735.104. Section 1400.735-20 also issued under 29 U.S.C. 172.

2. Revise § 1400.724.20 to read as follows:

§ 1400.735-20 Code of Professional Conduct for FMCS Mediators

The Federal Mediation and Conciliation Service has a Code of Professional Conduct for FMCS Mediators. Mediators in the Federal Mediation and Conciliation Service are required to conduct themselves in accordance with the responsibilities outlined therein.

Dated: November 3, 2022.
Anna Davis,
Deputy General Counsel.

[FR Doc. 2022-24406 Filed 11-9-22; 8:45 am]

BILLING CODE 6732-01-P